FARM CREDIT ADMINISTRATION

Sunshine Act Meeting, Farm Credit Administration Board; Regular Meeting

AGENCY: Farm Credit Administration.

SUMMARY: Notice is hereby given, pursuant to the Government in the Sunshine Act (5 U.S.C. 552b(e)(3)), of the forthcoming regular meeting of the Farm Credit Administration Board (Board).

DATE AND TIME: The regular meeting of the Board will be held at the offices of the Farm Credit Administration in McLean, Virginia, on February 14, 2002, from 9 a.m. until such time as the Board concludes its business.

FOR FURTHER INFORMATION CONTACT: Kelly Mikel Williams, Secretary to the Farm Credit Administration Board, (703) 883-4025, TDD (703) 883-4444.

ADDRESSES: Farm Credit Administration, 1501 Farm Credit Drive, McLean, Virginia 22102-5090.

SUPPLEMENTARY INFORMATION: Parts of this meeting of the Board will be open to the public (limited space available), and parts of this meeting will be closed. In order to increase the accessibility to Board meetings, persons requiring assistance should make arrangements in advance. The matters to be considered at the meeting are:

Open Session

A. Approval of Minutes

• January 10, 2002 (Open and Closed)

B. Reports

• Report on Corporate Approvals

• Status Report on Approval of Loans to Designated Parties Rule

• OMB Budget Proposal

• Trends in Debt Issuances

Closed*

• OSMO Report

*Session Closed-Exempt pursuant to 5 U.S.C. 552b(c)(8) and (9).

Dated: February 8, 2002.
Kelly Mikel Williams,
Secretary, Farm Credit Administration Board.

[FR Doc. 02-3560 Filed 2-8-02; 3:54 pm]

BILLING CODE 6705-01-P